INTERNATIONAL TRADE COMMISSION

Notice of Receipt of Complaint; Solicitation of Comments Relating to the Public Interest

AGENCY: U.S. International Trade Commission.

ACTION: Notice.

SUMMARY: Notice is hereby given that the U.S. International Trade Commission has received a complaint entitled Certain Carburetors and Products Containing Such Carburetors, DN 3323; the Commission is soliciting comments on any public interest issues raised by the complaint or complainant's filing pursuant to the Commission's Rules of Practice and Procedure.

FOR FURTHER INFORMATION CONTACT: Lisa R. Barton, Secretary to the Commission, U.S. International Trade Commission, 500 E Street SW, Washington, DC 20436, telephone (202) 205-2000. The public version of the complaint can be accessed on the Commission's Electronic Document Information System (EDIS) at https://edis.usitc.gov, and will be available for inspection during official business hours (8:45 a.m. to 5:15 p.m.) in the Office of the Secretary, U.S. International Trade Commission, 500 E Street SW, Washington, DC 20436, telephone (202) 205-2000.

General information concerning the Commission may also be obtained by accessing its internet server at United States International Trade Commission (USITC) at https://www.usitc.gov. The public record for this investigation may be viewed on the Commission's Electronic Document Information System (EDIS) at https://edis.usitc.gov. Hearing-impaired persons are advised that information on this matter can be obtained by contacting the Commission's TDD terminal on (202) 205-1810.

SUPPLEMENTARY INFORMATION: The Commission has received a complaint and a submission pursuant to § 210.8(b) of the Commission's Rules of Practice and Procedure filed on behalf of Walbro, LLC on June 14, 2018. The complaint alleges violations of section 337 of the Tariff Act of 1930 (19 U.S.C. 1337) in the importation into the United States, the sale for importation, and the sale within the United States after importation of certain carburetors and products containing such carburetors. The complaint names as respondents: Ruixing Carburetor Manufacturing Co., Limited Zhejiang of China; Huayi Carburetor Factory of China; Tillotson of Ireland; Fujian Hualong Carburetor Co., Ltd. of China; Fuding Guangda General Machinery Co., Ltd. of China; Wuyi Henghai Tools Co., Ltd. of China; Fuding Youyi Trade Co., Ltd. of China; Amazon.com, Inc. of Seattle, WA; Amerisun Inc. of Itasca, IL; Ardisam, Inc. of Cumberland, WI; Buffalo Corporation of O'Fallon, MO; Cabela's Incorporated of Sidney, NE; Champion Power Equipment, Inc. of Santa Fe, CA; Feldmann Eng. & Mfg. Co., Inc. of Sheboygan Falls, WI; FNA Group, Inc. of Pleasant Prairie, WI; Frictionless World, LLC of Denver, CO; Generac Power Systems, Inc. of Waukesha, WI; Husqvarna Professional Products, Inc. of Charlotte, NC; Imperial Industrial Supply Co. d/b/a Duromax Power Equipment of Ontario, CA; Kmart Corporation of Hoffman Estates, IL; Lowe's Companies, Inc. of Mooresville, NC; Mat Industries, LLC of Lake Zurich, IL; Menards, Inc. of Eau Claire, WI; MTD Products Inc. of Valley City, OH; North American Tool Industries of Huntington, IN; Northern Tool & Equipment Co., Inc. of Burnsville, MN; QV Tools LLC of Las Vegas, NV; Sears, Roebuck and Co. of Hoffman Estates, IL; Target Corporation of Minneapolis, MN; Techtronics Industries Co. Ltd of d/b/a Techtronic Industries Power Equipment of Hong Kong; The Home Depot, Inc. of Atlanta, GA; Thunderbay Products of Clayton, WI; Tool Tuff Direct LLC of Golden, CO; Tractor Supply Company of Brentwood, TN; and Walmart Inc. of Bentonville, AR. The complainant requests that the Commission issue a general exclusion order, and in the alternative, issue a limited exclusion order, cease and desist orders, and impose a bond upon respondents' alleged infringing articles during the 60-day Presidential review period pursuant to 19 U.S.C. 1337(j).

Proposed respondents, other interested parties, and members of the public are invited to file comments, not to exceed five (5) pages in length, inclusive of attachments, on any public interest issues raised by the complaint or § 210.8(b) filing. Comments should address whether issuance of the relief specifically requested by the complainant in this investigation would affect the public health and welfare in the United States, competitive conditions in the United States economy, the production of like or directly competitive articles in the United States, or United States consumers.

In particular, the Commission is interested in comments that:

(i) Explain how the articles potentially subject to the requested remedial orders are used in the United States;

(ii) identify any public health, safety, or welfare concerns in the United States relating to the requested remedial orders;

(iii) identify like or directly competitive articles that complainant, its licensees, or third parties make in the United States which could replace the subject articles if they were to be excluded;

(iv) indicate whether complainant, complainant's licensees, and/or third party suppliers have the capacity to replace the volume of articles potentially subject to the requested exclusion order and/or a cease and desist order within a commercially reasonable time; and

(v) explain how the requested remedial orders would impact United States consumers.

Written submissions must be filed no later than by close of business, eight calendar days after the date of publication of this notice in the Federal Register. There will be further opportunities for comment on the public interest after the issuance of any final initial determination in this investigation.

Persons filing written submissions must file the original document electronically on or before the deadlines stated above and submit 8 true paper copies to the Office of the Secretary by noon the next day pursuant to § 210.4(f) of the Commission's Rules of Practice and Procedure (19 CFR 210.4(f)). Submissions should refer to the docket number (“Docket No. 3323”) in a prominent place on the cover page and/or the first page. (See Handbook for Electonic Filing Procedures, Electronic Filing Procedures).¹ Persons with questions regarding filing should contact the Secretary (202-205-2000).

¹ Handbook for Electronic Filing Procedures: https://www.usitc.gov/documents/handbook_on_filing_procedures.pdf.

Any person desiring to submit a document to the Commission in confidence must request confidential treatment. All such requests should be directed to the Secretary to the Commission and must include a full statement of the reasons why the Commission should grant such treatment. See 19 CFR 201.6. Documents for which confidential treatment by the Commission is properly sought will be treated accordingly. All such requests should be directed to the Secretary to the Commission and must include a full statement of the reasons why the Commission should grant such treatment. See 19 CFR 201.6. Documents for which confidential treatment by the Commission is properly sought will be treated accordingly. All information, including confidential business information and documents for which confidential treatment is properly sought, submitted to the Commission for purposes of this Investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel,² solely for cybersecurity purposes. All nonconfidential written submissions will be available for public inspection at the Office of the Secretary and on EDIS.³

² All contract personnel will sign appropriate nondisclosure agreements.

³ Electronic Document Information System (EDIS): https://edis.usitc.gov.

This action is taken under the authority of section 337 of the Tariff Act of 1930, as amended (19 U.S.C. 1337), and of §§ 201.10 and 210.8(c) of the Commission's Rules of Practice and Procedure (19 CFR 201.10, 210.8(c)).

By order of the Commission.
Issued: June 15, 2018.
Lisa Barton,
Secretary to the Commission.

[FR Doc. 2018-13286 Filed 6-20-18; 8:45 am]

BILLING CODE 7020-02-P